DEPARTMENT OF TRANSPORTATION

Federal Railroad Administration

[Docket Number FRA-2011-0091]

Petition for Waiver of Compliance

In accordance with Part 211 of Title 49 of the Code of Federal Regulations (CFR), this document provides the public notice that by a document dated November 15, 2011, New Jersey Transit (NJT) has petitioned the Federal Railroad Administration (FRA) for a waiver of compliance from certain provisions of the Federal railroad safety laws or regulations contained at Title 49 U.S.C. Section 20302. FRA assigned the petition Docket Number FRA-2011-0091.

Specifically, NJT is seeking relief from 49 U.S.C. 20302(1)(B). FRA has determined that NJT has incorrectly sought relief from the statute, which does not apply specifically to this issue. The correct areas that NJT should be seeking relief from are 49 CFR 231.1(e), Ladders; and 49 CFR 238.230(b), Welded safety appliances. FRA has modified the application to reflect the correct citations and will proceed with the waiver application as modified.

The side door access ladders of the series ALP 46, ALP 46A, and ALP 45DP locomotives consist of a frame assembly incorporating welded joints in the fabrication. The assembly is then bolted to the side sill of the locomotive. NJT has stated that the ALP 46 and ALP 46A locomotives have been in use for 9 years with no history of structural failure or reported injuries associated with this ladder design.

A copy of the petition, as well as any written communications concerning the petition, is available for review online at http://www.regulations.gov and in person at the U.S. Department of Transportation's (DOT) Docket Operations Facility, 1200 New Jersey Ave. SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: (202) 493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by January 20, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (volume 65, number 70; pages 19477-78), or online at http://www.dot.gov/privacy.html.

Issued in Washington, DC, on November 30, 2011.
Brenda J. Moscoso,
Director, Office of Safety Analysis, Risk Reduction, and Crossing/Trespasser Programs.

[FR Doc. 2011-31227 Filed 12-5-11; 8:45 am]

BILLING CODE 4910-06-P